APPALACHIAN STATES LOW-LEVEL RADIOACTIVE WASTE COMMISSION

Annual Meeting

Time and Date: 10 a.m.-12:30 p.m. November 4, 2005.

Place: Harrisburg Hilton and Towers, One North Second Street, Harrisburg, PA 17101.

Status: Most of the meeting will be open to the public. If there is a need for an executive session (closed to the public), it will be announced at the meeting.

Matters to be Considered: Portions Open to the Public: The primary purpose of this meeting is to (1) review the independent auditors' report of Commission's financial statements for fiscal year 2004-2005; (2) review the Low-Level Radioactive Waste (LLRW) generation information for 2004; (3) consider a proposal budget for fiscal year 2006-2007; (4) review recent national developments regarding LLRW management and disposal; (5) discuss the need for a survey of LLRW generators in the Compact; and (6) elect the Commission's Officers.

Portions Closed to the Public: Executive Session, if deemed necessary, will be announced at the meeting.

Contact Person for More Information: Richard R. Janati, Pennsylvania Staff member on the Commission, at 717-787-2163.

Richard R. Janati,
PA Staff Member on the Commission.

[FR Doc. 05-21242 Filed 10-24-05; 8:45 am]

BILLING CODE 0000-00-P